DEPARTMENT OF ENERGY

Federal Energy Regulatory Commission

Combined Notice of Filings #1

November 7, 2008.

Take notice that the Commission received the following electric corporate filings:

Docket Numbers: EC09-14-000.

Applicants: Arlington Wind Power Project LLC, Cloud County Wind Farm, LLC, Pioneer Prairie Wind Farm I, LLC.

Description: Arlington Wind Power Project LLC et al. submits Application for Authorization for Disposition of Jurisdictional Facilities and Request for Expedited Action under EC09-14.

Filed Date: 11/04/2008.

Accession Number: 20081106-0068.

Comment Date: 5 p.m. Eastern Time on Tuesday, November 25, 2008.

Docket Numbers: EC09-17-000.

Applicants: Holyoke Water Power Company, Holyoke Power and Electric Company, Western Massachusetts Electric Company.

Description: Holyoke Water Power Company et al. submits Joint Application for Authority to Transfer Jurisdictional Facilities under EC09-17.

Filed Date: 11/05/2008.

Accession Number: 20081107-0027.

Comment Date: 5 p.m. Eastern Time on Wednesday, November 26, 2008.

Docket Numbers: EC09-16-000.

Applicants: Locust Ridge Wind Farm, LLC, Fortis Energy Marketing & Trading GP.

Description: Application for Authorization Under Section 203 of Fortis Energy Marketing & Trading GP, et al. in EC09-16.

Filed Date: 11/06/2008.

Accession Number: 20081106-5011.

Comment Date: 5 p.m. Eastern Time on Thursday, November 20, 2008.

Docket Numbers: EC09-18-000.

Applicants: PPL Great Works, LLC, PPL Maine, LLC, PENOBSCOT RIVER RESTORATION TRUST.

Description: Joint Application of PPL Maine, LLC, PPL Great Works and Penobscot River Restoration Trust Under Section 203 of the Federal Power Act for Disposition of Jurisdictional Matters in EC09-18.

Filed Date: 11/07/2008.

Accession Number: 20081107-5053.

Comment Date: 5 p.m. Eastern Time on Friday, November 28, 2008.

Docket Numbers: EC09-8-001.

Applicants: Consolidated Edison Co. of New York, Inc.

Description: New Athens Generating Co, LLC submits a supplement to their 10/17/08 application for authorization under Section 203 of the Federal Power Act under EC09-8.

Filed Date: 11/04/2008.

Accession Number: 20081106-0071.

Comment Date: 5 p.m. Eastern Time on Tuesday, November 25, 2008.

Take notice that the Commission received the following exempt wholesale generator filings:

Docket Numbers: EG09-10-000.

Applicants: Majestic Wind Power LLC.

Description: Self Certification Notice of Exempt Wholesale Generator Status of Majestic Wind Power LLC under EG09-10.

Filed Date: 11/06/2008.

Accession Number: 20081106-5015.

Comment Date: 5 p.m. Eastern Time on Friday, November 28, 2008.

Docket Numbers: EG09-11-000.

Applicants: Enel Stillwater, LLC.

Description: Enel Stillwater, LLC's Notice of Self-Certification of Exempt Wholesale Generator Status in EG09-11.

Filed Date: 11/07/2008.

Accession Number: 20081107-5079.

Comment Date: 5 p.m. Eastern Time on Friday, November 28, 2008.

Take notice that the Commission received the following electric rate filings:

Docket Numbers: ER98-4109-003; ER03-175-007; ER03-394-005; ER05-440-003; ER07-265-006; ER08-100-006.

Applicants: El Dorado Energy, LLC; Termoelectrica U.S., LLC; Elk Hills Power, LLC; Sempra Generation; Sempra Energy Solutions LLC; Sempra Energy Trading LLC.

Description: Sempra Energy submits notice of Change in Status, dated 10/31/08 relating to the acquisition of EnergySouth, Inc on 10/1/08 under ER98-4109 et al.

Filed Date: 11/04/2008.

Accession Number: 20081107-0001.

Comment Date: 5 p.m. Eastern Time on Tuesday, November 25, 2008.

Docket Numbers: ER02-1600-005.

Applicants: Green Mountain Energy Company.

Description: Green Mountain Energy Co. submits its demonstration that they meet the definition of a Category 1 seller and is therefore exempt from the requirement to submit market power analysis under ER02-1600.

Filed Date: 11/05/2008.

Accession Number: 20081107-0085.

Comment Date: 5 p.m. Eastern Time on Wednesday, November 26, 2008.

Docket Numbers: ER03-715-006.

Applicants: Marina Energy, LLC.

Description: South Jersey Energy Company submits an updated market power analysis and tariff revisions under ER97-1397 et al.

Filed Date: 11/04/2008.

Accession Number: 20081105-0117.

Comment Date: 5 p.m. Eastern Time on Monday, January 05, 2009.

Docket Numbers: ER06-1409-003; ER06-1408-003; ER06-1413-003; ER06-1407-003; ER08-577-004; ER08-578-004; ER08-579-005.

Applicants: Noble Altona Windpark, LLC, Noble Bliss Windpark, LLC, Noble Clinton Windpark I, LLC, Noble Ellenburg Windpark, LLC, Noble Bellmont Windpark, LLC, Noble Chateaugay Windpark, LLC, Noble Wethersfield Windpark, LLC.

Description: Noble Altona Windpark, LLC et al. submits revised market based rate tariffs under ER06-1409 et al.

Filed Date: 11/04/2008.

Accession Number: 20081106-0072.

Comment Date: 5 p.m. Eastern Time on Tuesday, November 25, 2008.

Docket Numbers: ER07-810-004.

Applicants: Grays Harbor Energy LLC.

Description: Notification of Non-Material Change in Status of Grays Harbor Energy LLC under ER07-810.

Filed Date: 11/07/2008.

Accession Number: 20081107-5020.

Comment Date: 5 p.m. Eastern Time on Friday, November 28, 2008.

Docket Numbers: ER08-1335-002.

Applicants: Southern Comapny Services, Inc.

Description: Southern Companies submits Second Substitute Fourth Revised Service Agreement 391 in its entirety in compliance with the Commission's 11/4/08 letter order under ER08-1335.

Filed Date: 11/05/2008.

Accession Number: 20081106-0102.

Comment Date: 5 p.m. Eastern Time on Wednesday, November 26, 2008.

Docket Numbers: ER08-1380-001.

Applicants: Southwest Power Pool, Inc.

Description: Southwest Power Pool, Inc. submits revised pages to its Bylaws intended to comply with directives of the Letter Order under ER08-1380.

Filed Date: 11/03/2008.

Accession Number: 20081105-0111.

Comment Date: 5 p.m. Eastern Time on Monday, November 24, 2008.

Docket Numbers: ER08-1521-001.

Applicants: American Electric Power System Corp.

Description: American Electric Power Service Corporation submits revised tariff sheets etc. under ER08-1521.

Filed Date: 11/06/2008.

Accession Number: 20081107-0100.

Comment Date: 5 p.m. Eastern Time on Friday, November 28, 2008.

Docket Numbers: ER08-1580-001.

Applicants: Oklahoma Gas and Electric Company.

Description: Oklahoma Gas and Electric Company submits its September 26 filing with a version of the O&O Agreement revised as requested by the Commission Staff under ER08-1580.

Filed Date: 11/03/2008.

Accession Number: 20081105-0108.

Comment Date: 5 p.m. Eastern Time on Monday, November 24, 2008.

Docket Numbers: ER09-159-001.

Applicants: New York Independent System Operator, In.

Description: New York Independent System Operator, Inc submits an errata to the 10/29/08 filing of an executed Standard Small Generator Interconnection Agreement with Casella Waste Systems, Inc under ER09-159.

Filed Date: 11/03/2008.

Accession Number: 20081105-0112.

Comment Date: 5 p.m. Eastern Time on Monday, November 24, 2008.

Docket Numbers: ER09-159-000.

Applicants: New York Independent System Operator, In, New York State Electric & Gas Corp.

Description: New York Independent System Operator, Inc. et al submit and executed standard small generator interconnection agreement with Casella Waste Systems, Inc. under ER09-159.

Filed Date: 10/29/2008.

Accession Number: 20081031-0046.

Comment Date: 5 p.m. Eastern Time on Wednesday, November 19, 2008.

Docket Numbers: ER09-160-000.

Applicants: Midwest Independent Transmission System.

Description: Midwest Independent Transmission System Operator, Inc. et al jointly submit revisions to Sections 4.4 Firm Market Flow Calculations rules etc of the Congestion Management Process of their joint operating agreement under ER09-160. tm2.

Filed Date: 10/29/2008.

Accession Number: 20081031-0047.

Comment Date: 5 p.m. Eastern Time on Wednesday, November 19, 2008.

Docket Numbers: ER09-161-000.

Applicants: PJM Interconnection, L.L.C.

Description: PJM Interconnection, L.L.C. submits an executed interim interconnection service agreement with Exelon Generation Company, LLC et al. under ER09-161.

Filed Date: 10/29/2008.

Accession Number: 20081031-0048.

Comment Date: 5 p.m. Eastern Time on Wednesday, November 19, 2008.

Docket Numbers: ER09-162-000.

Applicants: Southwest Power Pool, Inc.

Description: Southwest Power Pool, Inc. submits revised pages to its open access transmission tariff intended to amend the rate charges for Southwestern Public Service Company under ER09-162.

Filed Date: 10/29/2008.

Accession Number: 20081031-0049.

Comment Date: 5 p.m. Eastern Time on Wednesday, November 19, 2008.

Docket Numbers: ER09-166-000.

Applicants: Duke Energy Carolinas, LLC.

Description: Duke Energy Carolinas, LLC submits Seventh Revised Service Agreement 210, a revised Network Integration Service Agreement between itself and North Carolina Electric Membership Corporation for Network Integration etc under ER09-1666.

Filed Date: 10/30/2008.

Accession Number: 20081031-0053.

Comment Date: 5 p.m. Eastern Time on Thursday, November 20, 2008.

Docket Numbers: ER09-169-000.

Applicants: California Independent System Operator C.

Description: California Independent System Operator Corp submits an amendment to the currently effective CAISO Tariff and to the Market Redesign and Technology Upgrade Tariff under ER09-169 et al.

Filed Date: 10/29/2008.

Accession Number: 20081031-0061.

Comment Date: 5 p.m. Eastern Time on Wednesday, November 19, 2008.

Docket Numbers: ER09-172-000.

Applicants: Canandaigua Power Partners, LLC.

Description: Canandaigua Power Partners, LLC submits its proposed FERC Electric Tariff, Original Volume 1 under which Canandaigua Power Partners may make wholesale sales of electric capacity etc under ER09-172.

Filed Date: 10/31/2008.

Accession Number: 20081105-0104.

Comment Date: 5 p.m. Eastern Time on Friday, November 21, 2008.

Docket Numbers: ER09-174-000.

Applicants: Evergreen Wind Power V, LLC.

Description: Application of Evergreen Windpower V, LLC for order accepting initial market-based rate tariff, waiving regulations and granting blanket approvals under ER09-174.

Filed Date: 10/31/2008.

Accession Number: 20081105-0105.

Comment Date: 5 p.m. Eastern Time on Friday, November 21, 2008.

Docket Numbers: ER09-214-000.

Applicants: Mt. Carmel Cogen, Inc.

Description: Mt Carmel Cogen, Inc submits a Petition for order accepting market-based rate tariff for filing and request for limited waiver under ER09-214.

Filed Date: 11/05/2008.

Accession Number: 20081107-0086.

Comment Date: 5 p.m. Eastern Time on Wednesday, November 26, 2008.

Docket Numbers: ER09-227-000.

Applicants: Delmarva Power & Light Company.

Description: Delmarva Power & Light Company submits an executed Interconnection and Mutual Operating Agreement between itself and City of Milford, Delaware designated as First Revised Service Agreement 126 etc under ER09-227.

Filed Date: 11/03/2008.

Accession Number: 20081105-0109.

Comment Date: 5 p.m. Eastern Time on Monday, November 24, 2008.

Docket Numbers: ER09-228-000.

Applicants: MidAmerican Energy Company.

Description: MidAmerican Energy Company submits an amended Network Integration Transmission Service Agreement and an amended Network Operating Agreement with Corn Belt Power Cooperative etc under ER09-228.

Filed Date: 11/03/2008.

Accession Number: 20081105-0110.

Comment Date: 5 p.m. Eastern Time on Monday, November 24, 2008.

Docket Numbers: ER09-229-000.

Applicants: Deseret Generation & Transmission Co-op.

Description: Desert Generation & Transmission Co-operative, Inc submits modifications to the rate schedules to reflect the additions of an associated party, Basin Electric Power Cooperative to the Northern Tier Transmission Group Planning Agreement etc under ER09-229.

Filed Date: 11/03/2008.

Accession Number: 20081105-0107.

Comment Date: 5 p.m. Eastern Time on Monday, November 24, 2008.

Docket Numbers: ER09-230-000.

Applicants: Idaho Power Company.

Description: Desert Generation & Transmission Co-operative, Inc submits modifications to the rate schedules to reflect the additions of an associated party, Basin Electric Power Cooperative to the Northern Tier Transmission Group Planning Agreement etc under ER09-229.

Filed Date: 11/03/2008.

Accession Number: 20081105-0107.

Comment Date: 5 p.m. Eastern Time on Monday, November 24, 2008.

Docket Numbers: ER09-231-000.

Applicants: Northwestern Corporation.

Description: Desert Generation & Transmission Co-operative, Inc submits modifications to the rate schedules to reflect the additions of an associated party, Basin Electric Power Cooperative to the Northern Tier Transmission Group Planning Agreement etc under ER09-229.

Filed Date: 11/03/2008.

Accession Number: 20081105-0107.

Comment Date: 5 p.m. Eastern Time on Monday, November 24, 2008.

Docket Numbers: ER09-232-000.

Applicants: PacifiCorp.

Description: Desert Generation & Transmission Co-operative, Inc submits modifications to the rate schedules to reflect the additions of an associated party, Basin Electric Power Cooperative to the Northern Tier Transmission Group Planning Agreement etc under ER09-229.

Filed Date: 11/03/2008.

Accession Number: 20081105-0107.

Comment Date: 5 p.m. Eastern Time on Monday, November 24, 2008.

Docket Numbers: ER09-233-000.

Applicants: Black Hills Power, Inc.

Description: Desert Generation & Transmission Co-operative, Inc submits modifications to the rate schedules to reflect the additions of an associated party, Basin Electric Power Cooperative to the Northern Tier Transmission Group Planning Agreement etc under ER09-229.

Filed Date: 11/03/2008.

Accession Number: 20081105-0107.

Comment Date: 5 p.m. Eastern Time on Monday, November 24, 2008.

Docket Numbers: ER09-234-000.

Applicants: Portland General Electric Company.

Description: Desert Generation & Transmission Co-operative, Inc submits modifications to the rate schedules to reflect the additions of an associated party, Basin Electric Power Cooperative to the Northern Tier Transmission Group Planning Agreement etc under ER09-229.

Filed Date: 11/03/2008.

Accession Number: 20081105-0107.

Comment Date: 5 p.m. Eastern Time on Monday, November 24, 2008.

Docket Numbers: ER09-237-000.

Applicants: ISO New England Inc.; New England Power Pool.

Description: ISO New England Inc et al submit Joint Filing of Proposed Revisions to the Generator Interconnection Process and FCM participation provision set forth in the ISO New England Inc Transmission, Markets and Services Tariff under ER09-237 et al.

Filed Date: 11/03/2008.

Accession Number: 20081105-0121.

Comment Date: 5 p.m. Eastern Time on Monday, November 24, 2008.

Docket Numbers: ER09-240-000.

Applicants: California Independent System Operator C.

Description: California Independent System Operator Corporation submits an amendment to the CAISO's Market Redesign and Technology Upgrade Tariff under ER09-240.

Filed Date: 11/04/2008.

Accession Number: 20081105-0114.

Comment Date: 5 p.m. Eastern Time on Tuesday, November 25, 2008.

Docket Numbers: ER09-243-000.

Applicants: Consolidated Edison Co. of New York, Inc.

Description: Consolidated Edison Company of New York, Inc submits amendments to its Delivery Service Rate Schedule No. 96 under ER09-243.

Filed Date: 11/04/2008.

Accession Number: 20081106-0067.

Comment Date: 5 p.m. Eastern Time on Tuesday, November 25, 2008.

Docket Numbers: ER09-244-000.

Applicants: Consolidated Edison Co. of New York, Inc.

Description: Consolidated Edison Company of New York, Inc submits a Master Services Agreement and associated Transactions Forms between Bayonne Energy under ER09-244.

Filed Date: 11/05/2008.

Accession Number: 20081106-0101.

Comment Date: 5 p.m. Eastern Time on Wednesday, November 26, 2008.

Docket Numbers: ER97-1397-014.

Applicants: South Jersey Energy Company.

Description: South Jersey Energy Company submits an updated market power analysis and tariff revisions under ER97-1397 et al.

Filed Date: 11/04/2008.

Accession Number: 20081105-0117.

Comment Date: 5 p.m. Eastern Time on Monday, January 05, 2009.

Docket Numbers: ER99-3426-008.

Applicants: San Diego Gas & Electric Company.

Description: Sempra Energy submits notice of Change in Status, dated 10/31/08 relating to the acquisition of EnergySouth, Inc on 10/1/08 under ER98-4109 et al.

Filed Date: 11/04/2008.

Accession Number: 20081107-0001.

Comment Date: 5 p.m. Eastern Time on Tuesday, November 25, 2008.

Take notice that the Commission received the following open access transmission tariff filings:

Docket Numbers: OA08-39-001.

Applicants: American Electric Power Service Corporation.

Description: American Electric Power Service Corporation submits for filing revised tariff sheets to its Open Access Transmission Tariff designated as Operating Companies of the American Electric Power System etc under OA08-39.

Filed Date: 11/04/2008.

Accession Number: 20081106-0070.

Comment Date: 5 p.m. Eastern Time on Tuesday, November 25, 2008.

Docket Numbers: OA07-82-002.

Applicants: Duke Energy Carolinas, LLC.

Description: Duke Energy Carolinas, LLC submits Attachment C Compliance Filing under OA07-82.

Filed Date: 11/05/2008.

Accession Number: 20081105-5070.

Comment Date: 5 p.m. Eastern Time on Wednesday, November 26, 2008.

Docket Numbers: OA07-92-002.

Applicants: Southern Company Services, Inc.

Description: Southern Company Services, Inc.'s Order No. 890 OATT Attachment C Compliance Filing under Docket OA07-92.

Filed Date: 11/05/2008.

Accession Number: 20081105-5146.

Comment Date: 5 p.m. Eastern Time on Wednesday, November 26, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-27408 Filed 11-18-08; 8:45 am]

BILLING CODE 6717-01-P